DEPARTMENT OF HEALTH AND HUMAN SERVICES

Substance Abuse and Mental Health Services Administration

Center for Mental Health Services; Notice of Meeting

Pursuant to Pub. L. 92-463, notice is hereby given of the meeting of the Center for Mental Health Services (CMHS) National Advisory Council in September 2002.

A portion of the meeting will be open and will include a roll call, general announcements, and discussion about the Substance Abuse and Mental Health Service's matrix program areas, the New Freedom Commission on Mental Health, the Center for Mental Health Service's disparities grant program, and consumer affairs.

Public comments are welcome. Please communicate with the individual listed as contact below for guidance. If anyone needs special accommodations for persons with disabilities please notify the contact listed below.

The meeting will also include the review, discussion, and evaluation of grant applications. Therefore a portion of the meeting will be closed to the public as determined by the SAMHSA Administrator, in accordance with Title 5 U.S.C. 552b(c)(6) and 5 U.S.C. App. 2. & 10 (d).

A summary of the meeting and a roster of Council members may be obtained from Ms. Eileen Pensinger, Executive Secretary, CMHS, Room 15-99, Parklawn Building, Rockville, Maryland 20857, telephone (301) 443-4823.

Committee Name: CMHS National Advisory Council.

Meeting Date: September 5-6, 2002.

Place: The Double Tree Hotel, 1750 Rockville Pike, Rockville, Maryland.

Type: Closed: September 5, 2002—9:15 a.m.—11 a.m.

Open: September 5, 2002—11:15 a.m.—5:30 p.m.

Open: September 6, 2002—9 a.m.—12:15 p.m.

Contact: Eileen S. Pensinger, M.Ed., Executive Secretary, 5600 Fishers Lane, Parklawn Building, Room 15-99, Rockville, Maryland 20857, Telephone: (301) 443-4823 and FAX (301) 443-5163.

Dated: August 12, 2002.
Toian Vaughn,
Committee Management Officer, Substance Abuse and Mental Health Services Administration.

[FR Doc. 02-21935 Filed 8-27-02; 8:45 am]

BILLING CODE 4162-20-P